DEPARTMENT OF THE TREASURY

Departmental Offices; Renewal of the Treasury Borrowing Advisory Committee of the Securities Industry and Financial Markets Association

ACTION: Notice of Renewal of Committee's Charter.

SUMMARY: In accordance with the Federal Advisory Committee Act, as amended (Pub. L. 92-463; 5 U.S.C. App. 2), with the concurrence of the General Services Administration, the Secretary of the Treasury has determined that renewal of the Treasury Borrowing Advisory Committee of the Securities Industry and Financial Markets Association (the “Committee”) is necessary and in the public interest in connection with the performance of duties imposed on the Department of the Treasury by law.

FOR FURTHER INFORMATION CONTACT: Colin Kim, Director, Office of Debt Management (202) 622-7087.

SUPPLEMENTARY INFORMATION: The purpose of the Committee is to provide informed advice as representatives of the financial community to the Secretary of the Treasury and Treasury staff, upon the Secretary of the Treasury's request, in carrying out Treasury responsibilities for Federal financing and public debt management. The Committee meets to consider special items on which its advice is sought pertaining to immediate Treasury funding requirements and pertaining to longer term approaches to manage the national debt in a cost effective manner. The Committee usually meets immediately before the Treasury announces each mid-calendar quarter funding operation, although special meetings also may be held. Membership consists of up to 20 representative members, appointed by Treasury. The members are senior level officials who are employed by primary dealers, institutional investors, and other major participants in the government securities and financial markets.

The Designated Federal Official for the Advisory Committee is the Director of the Office of Debt Management. The Treasury Department has filed copies of the Committee's renewal charter with appropriate committees in Congress and also furnished a copy of the renewal charter to the Library of Congress.

Dated: July 5, 2011.
Colin Kim,
Director of the Office of Debt Management.

[FR Doc. 2011-18200 Filed 7-18-11; 8:45 am]

BILLING CODE 4810-25-P